FEDERAL COMMUNICATIONS COMMISSION

Notice of Public Information Collection(s) Being Reviewed by the Federal Communications Commission, Comments Requested

August 19, 2003.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 24, 2003. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0465.

Title: Section 74.985, Signal Booster Station.

Form No.: N/A.

Type of Review: Extension of a currently approved collection.

Respondents: Business or other for-profit and not-for-profit institutions.

Number of Respondents: 6,300.

Estimated Time Per Response: .084—8.25 hours.

Frequency of Response: Recordkeeping requirement, on occasion reporting requirement, and third party disclosure requirement.

Total Annual Burden: 919 hours.

Total Annual Cost: $2,252,500.

Needs and Uses: Section 74.985 requires signal booster stations to: (1) submit engineering data or showings in specified formats to the FCC's duplicating and research contractor for public service records duplication; (2) to serve a copy of the application and accompanying engineering materials on affected co-channel or adjacent channel parties; and (3) to retain a copy of the application at the transmitter site. The data are used to ensure that Multipoint Distribution Service (MDS) and Instructional Television Fixed Service (ITFS) applicants and licensees have considered properly the potential for harmful interference from their facilities.

OMB Control No.: 3060-0531.

Title: Local Multipoint Distribution Service (LMDS).

Form No.: N/A.

Type of Review: Extension of a currently approved collection.

Respondents: Business or other for-profit.

Number of Respondents: 986.

Estimated Time Per Response: .25-20 hours.

Frequency of Response: On occasion reporting requirement, and third party disclosure requirement.

Total Annual Burden: 30,423 hours.

Total Annual Cost: $2,025,400.

Needs and Uses: The information requested will be used by FCC personnel to determine the technical, legal and other qualifications of applicants to operate stations in the Local Multipoint Distribution Service (LMDS). There is no change to this information collection (extension of a currently approved collection).

OMB Control No.: 3060-0798.

Title: FCC Application for Wireless Telecommunications Bureau Radio Service Authorization.

Form No.: FCC Form 601.

Type of Review: Revision of a currently approved collection.

Respondents: Individuals or households, business or other for-profit, not-for-profit institutions and State, local, or Tribal government.

Number of Respondents: 250,520.

Estimated Time Per Response: 1.25 hours.

Frequency of Response: On occasion reporting requirement, and third party disclosure requirement.

Total Annual Burden: 219,205 hours.

Total Annual Cost: $50,104,000.

Needs and Uses: The FCC Form 601 is a consolidated, multi-part application or “long form” for market-based licensing and site-by-site licensing in the Wireless Telecommunications Bureau's (WTB's) Radio Services' Universal Licensing System (ULS).

The WTB is in the process of implementing the Instructional Television Fixed Service (ITFS) and the Multipoint Distribution Service (MDS) into the Universal Licensing System (ULS). These services were transferred to WTB due to the Commission's reorganization on March 25, 2003, as they were previously held in the Broadband Licensing System (BLS). The information is used by the Commission to determine whether the applicant is legally, technically and financially qualified to be licensed.

The estimated average burden and number of respondents have been corrected to reflect the integration of the ITFS and the MDS services into ULS using FCC Form 601.

OMB Control No.: 3060-0947.

Title: Section 101.1327, Renewal Expectancy for EA Licensees.

Form No.: N/A.

Type of Review: Extension of a currently approved collection.

Respondents: Business or other for-profit.

Number of Respondents: 18,820.

Estimated Time Per Response: .50-20 hours.

Frequency of Response: Every 10 year reporting requirement.

Total Annual Burden: 284,653 hours.

Total Annual Cost: $18,820,000.

Needs and Uses: The information required in Section 101.1327 is used to determine whether a renewal applicant of a Multiple Address System has complied with the requirements to provide substantial service by the end of the ten-year initial license term. The FCC uses this information to determine whether the applicant's license will be renewed at the end of the license period.

Federal Communications Commission.
Marlene H. Dortch,
Secretary.

[FR Doc. 03-21622 Filed 8-22-03; 8:45 am]

BILLING CODE 6712-01-P